DEPARTMENT OF ENERGY

Federal Energy Regulatory Commission

[Docket Nos. RP00-487-002 and RP01-14-002]

Tuscarora Gas Transmission Company; Notice of Compliance Filing

August 12, 2003.

Take notice that on August 4, 2003, Tuscarora Gas Transmission Company (Tuscarora) tendered for filing as part of its FERC Gas Tariff Original Volume No. 1, the revised tariff sheets listed on Appendix A of the filing.

Tuscarora states that the purpose of this filing is to comply with the Commission's July 3, 2003, order on Tuscarora's Order No. 637 compliance filing submitted on May 13, 2002, in the captioned proceedings.

Tuscarora states that copies of its filing have been mailed to all affected customers and interested state commissions, as well as those persons listed on the Commission's official service list in these proceedings.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 18, 2003.

Magalie R. Salas,
Secretary.

[FR Doc. 03-20976 Filed 8-15-03; 8:45 am]

BILLING CODE 6717-01-P